SECURITIES AND EXCHANGE COMMISSION

Sunshine Act; Notice of Meeting

Federal Register Citation of Previous Announcement: [71 FR 25620, May 1, 2006].

Status: Closed Meeting.

Place: 100 F Street, NE., Washington, DC.

Date and Time of Previously Announced Meeting: Thursday, May 4, 2006 at 2 p.m.

Change in the Meeting: Additional Item.

The following item has been added to the 2 p.m. Closed Meeting scheduled for Thursday, May 4, 2006: a collection matter.

Commissioner Campos, as duty officer, determined that no earlier notice thereof was possible.

At times, changes in Commission priorities require alterations in the scheduling of meeting items. For further information and to ascertain what, if any, matters have been added, deleted or postponed, please contact the Office of the Secretary at (202) 551-5400.

Dated: May 2, 2006.
Nancy M. Morris,
Secretary.

[FR Doc. 06-4279 Filed 5-3-06; 11:12 am]

BILLING CODE 8010-01-P